DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: 2006 Census Test.

Form Number(s): DD-1, DD-1(E/S), DD-A(RQ), DD-1(E), DD-1(E)SUPP, DD-1(E)R, DD-20, D-20(S).

Agency Approval Number: None.

Type of Request: New collection.

Burden: 37,808 hours.

Number of Respondents: 239,890.

Avg Hours Per Response: Households and reinterview—10 minutes; Persons in Gqs and reinterview—5 minutes.

Needs and Uses: The U.S. Census Bureau requests authorization from the Office of Management and Budget (OMB) to collect data from the public as part of the 2006 Census Test. The 2006 Census Test is one of a number of tests planned to improve the 2010 Census.

Census 2000 was an operational and data quality success. However, that success was achieved at great operational risk and great expense. In response to the lessons learned from Census 2000, and in striving to better meet our Nation's ever-expanding needs for social, demographic, and geographic information, the U.S. Department of Commerce and the Census Bureau have developed a multi-year effort to completely modernize and re-engineer the 2010 Census of Population and Housing.

In order to meet our constitutional and legislative mandates, we must implement a re-engineered 2010 Census that is cost-effective, improves coverage, and reduces operational risk. Achieving this strategic goal requires an iterative series of tests that will provide an opportunity to evaluate new or improved question wording, methodology, technology, and questionnaire design. The 2006 Census Test is part of this testing cycle, which has been planned to allow us to finalize methodologies and operational procedures in time to conduct a Dress Rehearsal in 2008 and a successful census in 2010.

The 2006 Census Test draws heavily on the results of the 2004 Census Test, a site test that we conducted to examine the feasibility of collecting personal information during Non Response Followup (NRFU) using Hand Held Computers (HHCs). The 2004 Census Test was the first large-scale test of a HHC in census-like conditions. The 2004 Census Test also studied new methods to improve coverage, including procedures for reducing duplication, and tested respondent reaction to revised race and Hispanic origin questions, examples, and instructions.

The 2006 Census Test is a site test that includes a replacement questionnaire (in the mailout/mailback site), a NRFU component, an enumeration of group quarters (GQs), and an update/enumerate operation that includes activities planned to increase response rates on an American Indian Reservation. Like the other tests leading up to the 2010 Census, this test is designed to evaluate new methods and systems intended to improve accuracy, reduce risks, and/or contain costs. In conjunction with the results of cognitive tests, focus groups, the 2003 National Census Test, the 2004 Census Test, and the 2005 National Census Test, the 2006 Census Test will help us develop the optimal data collection methodology for the 2010 Census.

There are two test sites for the 2006 Census Test—selected census tracts in Travis County, Texas, and the Cheyenne River American Indian Reservation and Off-Reservation Trust Land in South Dakota.

Affected Public: Individuals or households; Business or other for-profit; Not-for-profit institutions; State, local, or Tribal government.

Frequency: One time.

Respondent's Obligation: Mandatory.

Legal Authority: Title 13, U.S.C., Sections 141 and 193.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: August 19, 2005.
Madeleine Clayton,
Management Analyst, Office of the Chief Information Officer.

[FR Doc. 05-16831 Filed 8-23-05; 8:45 am]

BILLING CODE 3510-07-P